DEPARTMENT OF HOMELAND SECURITY

Federal Emergency Management Agency

[Docket ID FEMA-2012-0003; Internal Agency Docket No. FEMA-B-1247]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 10, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1247, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository address
Fairfield County, Connecticut (All Jurisdictions)
Maps Available for Inspection Online at: http://www.starr-team.com/starr/RegionalWorkspaces/RegionI/FairfieldCTcoastal/
City of Bridgeport | City Hall Annex, 999 Broad Street, Bridgeport, CT 06604.
City of Norwalk | City Hall, 125 East Avenue, Norwalk, CT 06851.
City of Stamford | Government Center, 888 Washington Boulevard, Stamford, CT 06901.
Town of Darien | Town Hall, 2 Renshaw Road, Darien, CT 06820.
Town of Fairfield | John J. Sullivan Independence Hall, 725 Old Post Road, Fairfield, CT 06824.
Town of Greenwich | Town Hall, 101 Field Point Road, Greenwich, CT 06830.
Town of Stratford | Town Hall, 2725 Main Street, Stratford, CT 06615.
Town of Westport | Town Hall, 110 Myrtle Avenue, Westport, CT 06880.
New Haven County, Connecticut (All Jurisdictions)
Maps Available for Inspection Online at: http://www.starr-team.com/starr/RegionalWorkspaces/RegionI/NewHavenCTcoastal/
Borough of Woodmont | Woodmont Borough Hall, 31 Clinton Street, Milford, CT 06460.
City of Milford | City Hall, 110 River Street, Milford, CT 06460.
City of New Haven | City Hall, 165 Church Street, New Haven, CT 06510.
City of West Haven | City Hall, 355 Main Street, West Haven, CT 06516.
Town of Branford | Town Hall, 1019 Main Street, Branford, CT 06405.
Town of East Haven | Town Hall, 250 Main Street, East Haven, CT 06512.
Town of Guilford | Town Hall, 31 Park Street, Guilford, CT 06437.
Town of Hamden | Government Center, 2750 Dixwell Avenue, Hamden, CT 06518.
Town of Madison | Town Offices, 8 Campus Drive, Madison, CT 06443.
Town of North Haven | Town Hall, 18 Church Street, North Haven, CT 06473.
Bracken County, Kentucky, and Incorporated Areas
Maps Available for Inspection Online at: http://www.bakeraecom.com/index.php/kentucky/bracken/
City of Augusta | City Offices, 219 Main Street, Augusta, KY 41002.
City of Brooksville | City Clerk's Office, 101 Frankfort Street, Brooksville, KY 41004.
City of Germantown | City Clerk's Office, 219 Main Street, Augusta, KY 41002.
Unincorporated Areas of Bracken County | Bracken County Courthouse, 116 West Miami Street, Brooksville, KY 41004.
Garrett County, Maryland, and Incorporated Areas
Maps Available for Inspection Online at: http://www.rampp-team.com/md.htm
Town of Accident | Town Hall, 104 South North Street, Accident, MD 21520.
Town of Deer Park | Town Hall, 100 Church Street, Deer Park, MD 21550.
Town of Friendsville | Town Hall, 313 Chestnut Street, Friendsville, MD 21531.
Town of Grantsville | Town Hall, 171 Hill Street, Grantsville, MD 21536.
Town of Kitzmiller | Town Hall, 104 West Centre Street, Kitzmiller, MD 21538.
Town of Loch Lynn Heights | Town Hall, 211 Bonnie Boulevard, Loch Lynn Heights, MD 21550.
Town of Mountain Lake Park | Town Hall, 1007 Allegany Drive, Mountain Lake Park, MD 21550.
Town of Oakland | Town Hall, 15 South 3rd Street, Oakland, MD 21550.
Unincorporated Areas of Garrett County | Garrett County Permits and Inspections Division, 2008 Maryland Highway, Suite 3, Mountain Lake Park, MD 21550.
Gregg County, Texas, and Incorporated Areas
Maps Available for Inspection Online at: http://www.riskmap6.com
City of Clarksville City | City Hall, 631 U.S. Route 80 and White Street, Clarksville, TX 75693.
City of Easton | City Hall, 185 Kennedy Boulevard, Easton, TX 75663.
City of Gladewater | City Hall, 519 East Broadway, Gladewater, TX 75647.
City of Kilgore | City Hall, 815 North Kilgore Street, Kilgore, TX 75662.
City of Lakeport | Lakeport City Hall, 207 Milam Road, Longview, TX 75603.
City of Longview | Development Services and Engineering Department, 410 South High Street, Longview, TX 75601.
City of Warren City | Warren City Hall, 3004 George Richey Road, Gladewater, TX 75647.
Town of White Oak | Town Hall, 906 South White Oak Road, White Oak, TX 75693.
Unincorporated Areas of Gregg County | Gregg County Courthouse, 101 East Methvin, Longview, TX 75601.

(Catalog of Federal Domestic Assistance No. 97.022, “Flood Insurance.”)

Dated: March 29, 2012.
Sandra K. Knight,
Deputy Associate Administrator for Mitigation, Department of Homeland Security, Federal Emergency Management Agency.

[FR Doc. 2012-8600 Filed 4-10-12; 8:45 am]

BILLING CODE 9110-12-P